SOCIAL SECURITY ADMINISTRATION

Ticket to Work and Work Incentives Advisory Panel Meeting

AGENCY: Social Security Administration (SSA).

ACTION: Notice; correction.

SUMMARY: The Social Security Administration published a document in the Federal Register of January 17, 2003, concerning a meeting of the Ticket to Work and Work Incentives Advisory Panel. The document contained an error for the meeting beginning time on February 11, 2003.

FOR FURTHER INFORMATION CONTACT: Kristen M. Breland, 202-358-6423.

Correction:

In the Federal Register of January 17, 2003, in FR Doc. 03-1084, on page 2628, in the second column, correct the “DATE” to read:

DATES:

January 10, 2003, 10 a.m.-3 p.m.*

January 11, 2003, 9 a.m.-5 p.m.

January 12, 2003, 9 a.m.-1 p.m.

Dated: January 29, 2003.
Deborah M. Morrison,
Designated Federal Officer.

[FR Doc. 03-2500 Filed 2-3-03; 8:45 am]

BILLING CODE 4191-02-P